DEPARTMENT OF LABOR

Employment and Training Administration

Workforce Investment Act; Indian and Native American Programs Under Section 166; Notice of Renewal of Native American Employment and Training Council

In accordance with the provisions of the Federal Advisory Committee Act, the Secretary of Labor has determined that the renewal of the Native American Employment and Training Council is in the public interest consistent with the requirements of title I, section 166(h)(4) of the Workforce Investment Act (WIA).

The Council will provide advice to the Assistant Secretary for Employment and Training regarding the overall operation and administration of the Native American employment and training programs authorized under WIA title I, section 166, as well as the implementation of other programs providing services to Native American youth and adults under this act. The Assistant Secretary views the Council as the primary vehicle to accomplish the Department's commitment to work in partnership with the Indian and Native American community on employment and training issues.

The Council shall consist of no fewer than 17 members representing Indians, Alaska Natives, and Native Hawaiians. These members shall be appointed by the Secretary from among individuals nominated by Indian tribes or Indian, Alaska Native, or Native Hawaiian organizations. An equitable geographic distribution will be sought, including representation of both tribes and non-tribal Native American organizations. Council members shall not be compensated and shall not be deemed to be employees of the United States.

The Council shall function solely as an advisory body, and in compliance with the provisions of the Federal Advisory Committee Act. Its charter will be filed under the Act 15 days from the date of this publication.

Interested persons are invited to submit comments regarding the renewal of the Native American Employment and Training Council. Such comments should be addressed to: James C. DeLuca, Chief, Division of Indian and Native American Programs, U.S. Department of Labor, Employment and Training Administration, Room N-4641, 200 Constitution Avenue NW, Washington, DC 20210. The voice telephone number is (202) 219-8502, ext. 119 (this is not a toll-free number).

Signed at Washington, DC, this 3rd day of August 2000.
Alexis M. Herman,
Secretary of Labor.

[FR Doc. 00-20421 Filed 8-10-00; 8:45 am]

BILLING CODE 4510-30-M